ENVIRONMENTAL PROTECTION AGENCY

[EPA-HQ-OPPT-2021-0286; FRL-10023-61]

Electronic Option for Export Notifications Under the Toxic Substances Control Act (TSCA); Notice of Availability

AGENCY: Environmental Protection Agency (EPA).

ACTION: Notice.

SUMMARY: EPA is announcing the availability of an electronic option for submitting the export notifications that are required under the Toxic Substances Control Act (TSCA). As an alternative to the hardcopy approach, which is still available, EPA is also now accepting the required export notifications electronically using EPA's electronic document submission system, the Central Data Exchange (CDX). Use of CDX to prepare and submit the required export notifications to EPA will help streamline and reduce the administrative costs and burdens associated with submitting paper-based export notifications for both the submitters and the Agency.

DATES: TSCA export notifications may be submitted electronically using CDX as of June 14, 2021.

ADDRESSES: The docket for this action, identified by docket identification (ID) number EPA-HQ-OPP-2021-0286, is available online at http://www.regulations.gov or in-person at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please note that due to the public health concerns related to COVID-19, the EPA/DC and Reading Room is closed to visitors with limited exceptions. The staff continues to provide remote customer service via email, phone, and webform. For the latest status information on the EPA/DC and docket access, visit https://www.epa.gov/dockets.

FOR FURTHER INFORMATION CONTACT: For technical information contact: Jeffrey Santacroce, Office of Pollution Prevention and Toxics, Environmental Protection Agency, 1200 Pennsylvania Ave. NW, Washington, DC 20460-0001: telephone number: (202) 564-2818; email address: santacroce.jeffrey@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture, process, import, or distribute in commerce chemical substances and mixtures. The following North American Industrial Classification System (NAICS) codes have been provided to assist you and others in determining whether this action might apply to certain entities. Potentially affected entities may include, but are not limited to exporters of chemical substances, which are mostly chemical companies classified under NAICS Codes 325 and 324.

If you have any questions regarding the applicability of this action to a particular entity, consult the technical person listed under FOR FURTHER INFORMATION CONTACT.

B. What action is the Agency taking?

The Agency is announcing the availability of an electronic reporting option for use by those who must submit notifications of export under TSCA section 12(b). EPA is providing an electronic reporting option as part of broader Federal government efforts to move to modern, electronic methods of information collection, which streamline processes and reduce overall burdens for all involved.

Currently, TSCA section 12(b) export notifications can only be submitted to the Agency in hardcopy, by mail or in person, requiring the Agency to manually scan and process submissions. The modernization of the TSCA section 12(b) export notification process will allow the option for users to prepare and submit their notifications to the Agency electronically using a web-based application. To file electronically, submitters must use the EPA provided application. To access the application, users must register with EPA's Central Data Exchange (CDX). CDX is the Agency's portal for submitting information to EPA in a secure manner. When registering, a user will need to ensure they are registering for the Chemical Safety and Pesticide Programs (CSPP) data flow which will provide them access to the Chemical Information Submission System (CISS) where the TSCA section 12(b) reporting application can be accessed. (Note: Users who have previously registered with CDX are able to add “Submission for Chemical Safety and Pesticide Program (CSPP)” to their current registration.) This reporting tool is compatible with Windows, Mac, Linux, and UNIX based computers, and uses “Extensible Markup Language” (XML) specifications for efficient data transmission across the internet.

C. What is the Agency's authority for taking this action?

TSCA section 12(b) requires exporters to submit a notice to EPA for each country to which a chemical subject to TSCA section 12(b) requirements is exported. Specifically, TSCA section 12(b) states, in part, that any person who exports or intends to export to a foreign country a chemical substance or mixture for which submission of information is required under TSCA section 4 or 5(b), or for which a rule, action or order has been proposed or promulgated under TSCA section 5, 6, or 7, shall notify the EPA Administrator of such export or intent to export. The Administrator in turn will notify the government of the importing country of the notice and of EPA's regulatory action with respect to the substance. Regulations implementing the statutory mandate in TSCA section 12(b) appear in 40 CFR part 707, subpart D, and include the following additional provisions:

• No notice of export will be required for articles, except polychlorinated biphenyl (PCB) articles, unless the Agency so requires in the context of individual TSCA section 5, 6, or 7 actions.

• Any person who exports or intends to export PCBs or PCB articles, for any purpose other than disposal, shall notify EPA of such intent or exportation under TSCA section 12(b). PCBs and PCB articles are defined at 40 CFR 761.3

• Any person who would be prohibited by a TSCA section 5 or 6 regulation from exporting a chemical substance or mixture, but who is granted an exemption by EPA to export that chemical substance or mixture, shall notify EPA under TSCA section 12(b) of such intent to export or exportation.

• An exporter will be subject to possible enforcement action (including penalties) for not complying with the applicable provisions of TSCA section 12(b).

The Government Paperwork Elimination Act (GPEA) (Pub. L. 105-277, Title XVII) (44 U.S.C. 3504) requires Executive agencies to provide, when practicable, for the option of the electronic maintenance, submission, or disclosure of information as a substitute for paper; and the use and acceptance of electronic signatures.

D. What are the anticipated benefits of CDX reporting and use of CISS?

EPA encourages submitters of TSCA section 12(b) export notifications to adopt electronic reporting as the preferred submission method. Electronic reporting reduces the reporting burden for submitters by reducing the cost and time required to review, edit, and transmit data to the Agency in a hardcopy format, as well as the cost to retain required records related to that submission. CISS, the web-based reporting tool, enables efficient data transmittal and reduces errors with built-in validation procedures. CISS also allows submitters to share a draft submission within their organization, and more easily save an electronic copy for their records or future use. The resource and time requirements for EPA to review and process these export notifications will also be reduced, including increased efficiencies in communicating with submitters, as well as the storage and retrieval of submission.

II. Electronic Reporting Procedures

This unit provides an overview of CDX, CSPP, and the CISS web-based reporting tool. It also provides instructions for the electronic reporting process for TSCA section 12(b) export notifications. As a reminder, the regulations implementing the statutory mandate in TSCA section 12(b) appear in 40 CFR part 707, subpart D.

A. What is CDX?

CDX is EPA's point of entry for environmental data submissions to the Agency. CDX also provides the capability for submitters to access their data using web services. CDX enables EPA to work with stakeholders, including governments, regulated industries, and the public to enable streamlined, electronic submission of data via the internet. To report under the procedures discussed in this notice, submitters would register with CDX, select the CSPP option, and use CISS to access reporting of TSCA section 12(b) export notifications. More information about CDX is available online at: http://www.epa.gov/cdx/.

B. What is CISS?

CISS is a web-based reporting tool for the submission of forms, reports, and other documents including TSCA section 12(b) export notifications, electronically to the Agency. The tool is available for use with Windows, Mac, Linux, and UNIX computer systems, using “Extensible Markup Language” (XML) specifications for efficient data transmission across the internet. CISS provides user-friendly navigation, works with CDX to secure online communication, creates a completed Portable Document Format (PDF) for review prior to submission, and enables data, reports, and other information to be submitted easily as PDF attachments, or by other electronic standards, such as XML. As currently implemented, one or more representatives from each facility must establish an account with EPA's CDX to prepare, transmit, certify, and submit forms, reports, and other documents.

C. How will TSCA section 12(b) export notifications be submitted via the internet using CDX?

Once registered with EPA's CDX, submitters of TSCA section 12(b) export notifications will select the CSPP Program and use CISS to prepare a data file for submission.

1. Registering with CDX. To submit electronically to EPA via CDX, a user would register with CDX at: http://cdx.epa.gov/epa_home.asp. CDX registration enables EPA to authenticate user identities and verify user authorizations.

To register in CDX, the CDX registrant (also referred to as “Electronic Signature Holder” or “Public/Private Key Holder”) would agree to the Terms and Conditions, provide information about the user and organization, select a user-name and password, and follow the procedures outlined in the guidance document for CDX available online at: http://www.epa.gov/cdr/tools/CDX_Registration_Guide_v0_02.pdf.

2. Submission. Submitters choosing to submit electronically will use CISS to prepare their submissions. CISS guides users through a “hands-on” process of creating an electronic submission. Once a user completes the relevant data fields and attaches appropriate PDF files or other file types, such as XML files, the web-based tool validates the submission by performing a basic error check and makes sure all the required fields and attachments are provided and complete.

Further instructions on submitting information and instructions for uploading PDF attachments or other file types, such as XML will be available through CISS reporting guidance available online at: https://www.epa.gov/tsca-import-export-requirements/tsca-requirements-exporting-chemicals.

D. Can CBI be submitted using CISS?

Yes, CISS enables the user to submit CBI and substantiate that CBI claim in an electronic format. All information sent by the user via CDX is transmitted securely to protect CBI. CISS also guides the user through the process of submitting CBI by prompting the user to check a CBI checkbox if using a form or by submitting a scanned document containing CBI by bracketing, underlining, or otherwise marking the confidential information on the document prior to scanning. As with paper-based submissions, a sanitized copy of any document containing CBI would be included by the user in the electronic submission. The CISS reporting guidance instructs users on how to submit CBI and substantiate CBI claims information using CISS.

E. How will CBI be protected when submitting via CDX?

The Agency ensures secure transmission of the data, reports, and other documents sent from the user through the internet via the Transport Layer Security (TLS) 1.0 protocol. TLS 1.0 is a widely used approach for securing internet transactions and is endorsed by the National Institute of Standards and Technology (NIST) as a means for protecting data sent over the internet. See NIST Special Publication 800-52, “Guidelines for the Selection and Use of Transport Layer Security (TLS) Implementations,” available online at: http://csrc.nist.gov/publications/nistpubs/800-52/SP800-52.pdf.

In addition, CISS enables the submitter to electronically sign, encrypt, and transmit submissions, which the Agency subsequently provides back to the user as an unaltered copy of record. This assures the user that the Agency has received exactly what the user sent to the Agency. CISS encrypts using a module based on the 256-bit Advanced Encryption Standard (AES) adopted by NIST. Details about AES can be found on the NIST website at: http://csrc.nist.gov/publications/fips/fips197/fips-197.pdf. EPA may incorporate other encryption modules into future versions of CISS. Information submitted via CDX is processed within EPA by secure systems certified for compliance with Federal Information Processing Standards (FIPS) that are available online at: http://www.nist.gov/itl/fips.cfm.

III. Paperwork Reduction Act (PRA)

According to PRA, 44 U.S.C. 3501 et seq., an agency may not conduct or sponsor, and a person is not required to respond to a collection of information that requires OMB approval under the PRA, unless it has been approved by OMB and displays a currently valid OMB control number. The OMB control numbers for EPA's regulations in title 40 of the CFR, after appearing in the Federal Register, are listed in 40 CFR part 9, and included on the related collection instrument or form, if applicable.

The information collection requirements associated with export notifications under TSCA section 12(b) and contained in 40 CFR part 707, subpart D are approved by OMB pursuant to the PRA under OMB Control No. 2070-0030 (EPA ICR No. 0795.16) on May 18, 2021. This action does not impose any burden requiring additional OMB approval. The annual paperwork burden per export notification is estimated to average 19 hours for hardcopy submissions and 12 hours for electronic submissions. This burden estimate includes the time needed to review instructions, search existing data sources, gather and maintain the data needed, and complete, review, and submit the required export notification to EPA. For additional details, please see the Information Collection Request document that is available in the docket.

Send any comments about the accuracy of the burden estimate, and any suggested methods for further minimizing respondent burden, including through the use of automated collection techniques, to the Director, Regulatory Support Division, Office of Mission Support (2822T), Environmental Protection Agency, 1200 Pennsylvania Ave. NW, Washington, DC 20460-0001. Please remember to include the OMB control number in any correspondence, but do not submit any export notifications or related questions to this address.

(Authority: 15 U.S.C. 2601 et seq.)

Dated: June 8, 2021.
Michal Freedhoff,
Principal Deputy Assistant Administrator, Office of Chemical Safety and Pollution Prevention.

[FR Doc. 2021-12402 Filed 6-11-21; 8:45 am]

BILLING CODE 6560-50-P